DEPARTMENT OF TRANSPORTATION

Federal Motor Carrier Safety Administration

Availability of Grant Program Funds for Commercial Driver's License Program Improvements

AGENCY: Federal Motor Carrier Safety Administration (FMCSA), DOT.

ACTION: Notice.

SUMMARY: This document announces the availability of Commercial Driver's License Program Improvement (CDLPI) grant funding as authorized by the Safe, Accountable, Flexible, Efficient Transportation Equity Act: A Legacy for Users (SAFETEA-LU). This act establishes a program for the improvement of the commercial driver's license (CDL) program. The program is a discretionary grant program funded by a single source. It provides funding for improving implementation of the State's CDL program, including expenses for computer hardware and software, publications, testing, personnel, training, and quality control. Grants made under this program may not be used to rent, lease, or buy land or buildings. The Agency in each State designated as the primary driver licensing agency responsible for the development, implementation, and maintenance of the CDL program is eligible to apply for and receive grant funding.

DATES: Applications for grant funding should be sent to the FMCSA Division Office in the State where the applicant is located no later than June 8, 2006. Specific information required with the application is provided below.

FOR FURTHER INFORMATION CONTACT: Mr. Lloyd Goldsmith, Federal Motor Carrier Safety Administration, Office of Safety Programs, Commercial Driver's License Division (MC-ESL), 202-366-2964, 400 Seventh Street, SW., Room 8310, Washington, DC 20590. Office hours are from 8 a.m. to 4:30 p.m., e.t., Monday through Friday, except Federal holidays.

SUPPLEMENTARY INFORMATION:

Background

Section 4124 of SAFETEA-LU (Pub. L. 109-59, August 10, 2005, 119 Stat. 1736) established CDLPI grants to implement the requirements of the CDL program created by the Commercial Motor Vehicle Safety Act of 1986 (CMVSA) and its amending legislation. The goal of the act is to improve highway safety by ensuring that drivers of large trucks and buses are qualified to operate those vehicles and to remove unsafe and unqualified drivers from the highways. The act retained the State's right to issue a driver's license but established minimum national standards which States must meet when licensing commercial motor vehicle (CMV) drivers.

Congress found that one of the leading factors operating against CMV safety was the possession of multiple licenses by commercial drivers. Multiple licenses allowed drivers to spread their traffic violations over a number of licenses and maintain a “good driver” rating regardless of the number of violations they may have acquired in one or more States. In response to the States' concerns, CMVSA directed DOT to establish Federal minimum standards for licensing, testing, qualification, and classification of commercial drivers. These standards were designed to prohibit commercial drivers from possessing more than one commercial license, require that commercial drivers pass meaningful written and driving tests, include special qualifications for hazardous materials drivers, and establish disqualifications and penalties for drivers convicted of the traffic violations specified in 49 CFR 383.51. States that failed to comply with the requirements imposed by DOT would be subject to withholding of a percentage of their highway funds. To enable the States to fully implement the provisions of the act, Congress required that DOT create a national Commercial Driver's License Information System (CDLIS) that would enable the States to communicate and exchange driver license information.

The Agency has been providing grant funds to States to support CDL program activities since the inception of the program. CMVSA authorized DOT, working in partnership with the States, to assist the States in implementation of the CDL program by expending $60 million in order to meet the goals established by Congress. These funds were to be used to develop the knowledge and skills tests, to create a CDLIS telecommunications network connecting all State Departments of Motor Vehicles (DMVs), to create national computer software to support each State in sharing information between the DMVs, to implement the testing and licensing procedures of each State, and to implement in each State an information system that would support the program. Congress continued to provide funding in subsequent years to continue to improve the program or to implement new program initiatives and systems enhancements mandated by subsequent legislation.

SAFETEA-LU Authorization

The funding being made available in FY2006 through SAFETEA-LU will be used to implement new initiatives as well as to continue to make related program improvements and build on the successes already achieved. SAFETEA-LU authorizes CDLPI through FY2009. The authorized funding for the program is $25 million per year. Consistent with the provisions of SAFETEA-LU [49 U.S.C. 31313(b)(2)], 10 percent is being retained from the amount being made available to support special activities and projects relating to CDL and motor vehicle safety that are of benefit to all jurisdictions or are designed to address national safety concerns and circumstances. An additional 10 percent will be retained to address emerging issues relating to CDL improvements [49 U.S.C. 31313(c)]. Additionally, $200,000 will be withheld in FY2006 and in FY2007 to convene a task force to study and address current impediments and foreseeable challenges to the CDL program's effectiveness and to study and address measures to realize the full safety potential of the CDL program [section 4135(d) of SAFETEA-LU].

Funds are available to any State that complies with or is making a good faith effort toward substantial compliance with the requirements of 49 U.S.C. 31311 and submits a grant proposal that qualifies under the conditions in this notice.

Federal Share

The Federal share of the funds is established by SAFETEA-LU as 100 percent. The grant period is in effect from the date the agreement is executed until September 30, 2008.

Implementation of CDLPI in FY2006

FMCSA is implementing the FY2006 CDLPI with the goal of reducing the number and severity of CMV crashes in the United States by ensuring commercial drivers involved in the transportation of freight and passengers are in compliance with all FMCSA regulatory requirements. To achieve this goal, FMCSA has established the following national priorities for the FY2006 CDLPI, which are designed to bring States into full compliance with Federal requirements and improve the effectiveness of their programs:

• Improve compliance with CMVSA and its amending legislation, including the Motor Carrier Safety Improvement Act (MCSIA) of 1999;

• Update CDL knowledge and skills tests to ensure drivers of large trucks and buses possess the knowledge and skills necessary to operate those vehicles safely;

• Improve the detection and prevention of fraudulent activities through better implementation of CDL program management control and oversight practices, including the covert monitoring and use of automated CDL knowledge testing systems;

• Improve the accuracy, speed, and completeness of driver history information exchanged among the various components of the system—including law enforcement, prosecutors, the courts, employers, and State driver licensing agencies—both within the State and between States;

• Improve the accuracy and timely transfer of conviction information;

• Increase CDL outreach and training on the importance of proper adjudication and sanctioning to the judicial community; and

• Design innovative initiatives to improve the licensing of commercial drivers. Additionally, FMCSA will consider CDLPI funding requests for research, demonstration projects, public education, and other eligible activities and projects relating to commercial driver licensing and motor vehicle safety that the States find necessary to advance their CDL programs.

State Funding Eligibility Requirements

All States and the District of Columbia are eligible to receive CDLPI funds directly from FMCSA. The Secretary of Transportation may make a grant to a State under this section only if it complies with or is making a good faith effort toward substantial compliance with the requirements of 49 U.S.C. 31311. Additionally, the State must agree that the total expenditure of amounts of the State and political subdivisions of the State, exclusive of amounts from the United States, for carrying out the CDL program and related activities and projects will be maintained at a level at least equal to the average level of that expenditure by the State and political subdivisions of the State for the last 2 fiscal years of the State ending before August 10, 2005. Also, the State must meet the following six conditions to qualify for CDL program grant funds:

• Assume responsibility for adopting and administering State safety laws and regulations that are compatible with the Federal CDL requirements (49 CFR parts 383 and 384);

• Designate in its CDL priorities proposal the lead State CDL agency responsible for implementing the plan;

• Attach to the proposal the aggregate expenditure of funds by the State and its political subdivisions, exclusive of Federal funds for CDL activities eligible for funding under this part, for the last two State fiscal years prior to August 10, 2005;

• Prepare and submit to FMCSA quarterly reports on project progress, status, and expenditures as well as a final report at the end of the project;

• Adopt and use the reporting standards and forms required by FMCSA to record work activities performed under the CDLPI grant proposal; and

• Coordinate the CDLPI grant proposal, data collection, and information systems with State Motor Carrier Safety Assistance Program (MCSAP) highway safety and judicial programs.

Application and Selection Process

Applicants must apply for CDLPI funding using the grants.gov electronic application process. To use the process, the applicant must have a DUNS number and be registered with grants.gov. To obtain a DUNS number or to register with grants.gov, go to http://www.grants.gov/GetStartedRoles?type=aor.

The applicant must download, complete, and submit the grant application package. This can be done on the Internet at http://www.grants.gov/Apply?campaignid=tabnavtracking081105. The Catalog of Federal Domestic Assistance (CFDA) can be found on the Internet at http://www.cfda.gov. The CFDA number for CDLPI is 20.232. It is anticipated the grants.gov application process will be available for use by CDLPI by May 9, 2006.

The application package consists of an application form (SF-424 and SF-424B) which must be submitted to the Division Administrator of the FMCSA Division Office in the State in which the applicant is located for approval no later than June 8, 2006. After Division Administrator approval, the application package must be submitted on grants.gov.

If funds remain available after allocations are made for applications submitted by June 8, 2006, additional applications may be submitted and will be considered for funding until all available funds have been allocated.

In addition to the Application for Federal Assistance (SF-424) and Assurances Non-construction Programs (SF-424B), the application package must include a grant proposal containing the following components:

• State's self-assessment of its CDL program,

• State's Maintenance of Effort calculation and certification,

• Project abstract/description,

• Purpose,

• Implementation strategies,

• Timeline,

• Performance measures,

• Monitoring and evaluation plan, and

• Detailed budget (OJP Form 7150/1).

SF-424 and SF-424B can be downloaded from http://www.grants.gov. OJP Form 7150/1 can be downloaded from http://www.ojp.usdoj.gov/Forms/budget_fillable.pdf. Sample forms that provide a suggested format for the grant proposal and guidance on how to prepare and submit the application package are available on the FMCSA-CDL Workgroups Web site at http://www.fmcsa.tmlsupport.com. Once at this Web site, click on your State, then click on Other Workgroups, then click on CDL & MCSAP National Workgroup, then click on File Sharing, then click on CDL, and finally click on Grant Proposal Information—updated for 2006. Each State folder on this Web site includes the amount of funds available to that State. Addresses of the FMCSA Division Offices are available on the Internet at http://www.fmcsa.dot.gov/about/contact/offices/displayfieldroster.asp.

Funds will be allocated based on availability and on the State's needs. Calculation of the amount that may be made available to each State will be based on the number of States that apply for the funds, the number of Master Pointer Records the State has on CDLIS, and the number of CDLIS transactions sent by the State within a 6-month period. The grant requests submitted by the States will be reviewed to ensure that the proposed activities are consistent with established national priorities. Those applicants approved for funding will be required to enter into a grant agreement with FMCSA, which will be executed by a Division Administrator on behalf of the agency.

Issued on: May 1, 2006.
Warren E. Hoemann,
Acting Administrator.

[FR Doc. E6-7046 Filed 5-8-06; 8:45 am]

BILLING CODE 4910-EX-P